DEPARTMENT OF JUSTICE

Notice of Lodging of Consent Decree Under the Comprehensive Environmental Response, Compensation and Liability Act

Notice is given that on July 1, 2010, a proposed Consent Decree in United States v. City of Hastings, Civil Action No. 8:10-CV-00247, was lodged with the United States District Court for the District of Nebraska.

This Consent Decree resolves claims of the United States against the City of Hastings under Sections 106 and 107(a) of the Comprehensive Environmental Response, Compensation, and Liability Act of 1980, as amended, 42 U.S.C. 9606 and 9607(a), for the recovery of response costs incurred and to be incurred by the United States Environmental Protection Agency (“EPA”) at the Second Street Subsite (“Subsite”), one of seven subsites of the Hastings Ground Water Contamination Superfund Site located in Hastings, Nebraska. The Consent Decree requires the City of Hastings to perform response work at the Subsite and pay $1,000,000 (and accrued interest) in reimbursement of EPA's response costs.

The Department of Justice will receive written comments on the proposed Consent Decree for a period of thirty (30) days from the date of publication of this notice. Comments should be addressed to the Assistant Attorney General, Environment and Natural Resources Division, and either e-mailed to pubcomment-ees.enrd@usdoj.gov or mailed to P.O. Box 7611, U.S. Department of Justice, Washington, DC 20044-7611, and should refer to United States v. City of Hastings, Civil Action No. 8:10-CV-00247 (D. Neb.), D.J. Ref. 90-11-2-09810.

The Consent Decree may be examined at the Office of the United States Attorney, District of Nebraska, 1620 Dodge Street, Suite 1400, Omaha, Nebraska, and at the United States Environmental Protection Agency, Region VII, 901 North 5th Street, Kansas City, Kansas. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy, please enclose a check to cover the twenty-five cents per page reproduction costs payable to the “U.S. Treasury” in the amount of $18.25 (for Decree without appendices) or $107.50 (for Decree with appendices), or, if by e-mail or fax, forward a check in that amount to the Consent Decree Library at the stated address.

Maureen Katz,
Assistant Chief, Environmental Enforcement Section, Environment and Natural Resources Division.

[FR Doc. 2010-16883 Filed 7-9-10; 8:45 am]

BILLING CODE 4410-15-P